DEPARTMENT OF EDUCATION

President's Advisory Commission on Educational Excellence for Hispanic Americans

AGENCY: President's Advisory Commission on Educational Excellence for Hispanic Americans, Department of Education.

ACTION: To amend the date of the meeting posted in the 67 FR 140, Monday, July 22, 2002, page 47777.

Date and Time: Monday, August 5, 2002, from 4:30 p.m. to 6 p.m.

ADDRESSES: The Commission meeting will be held in San Diego, California, at the Westgate Hotel located at 1055 Second Avenue, San Diego, CA, 92101

FOR FURTHER INFORMATION CONTACT: Leslie Sanchez, Executive Director, or Adam Chavarria, Associate Director, White House Initiative on Educational Excellence for Hispanic Americans, 400 Maryland Ave., SW., Washington, DC 20202, (202) 401-1411.

Dated: August 2, 2002.
Rod Paige,
Secretary, U.S. Department of Education.

[FR Doc. 02-20027 Filed 8-7-02; 8:45 am]

BILLING CODE 4000-01-M